DEPARTMENT OF LABOR

Employment and Training Administration

[TA-W-55,889]

The Glass Group, Inc., Park Hills, MO; Notice of Termination of Investigation

Pursuant to Section 221 of the Trade Act of 1974, as amended, an investigation was initiated on October 27, 2004 in response to a worker petition filed on behalf of workers at The Glass Group, Inc., Park Hills, Missouri.

This petition is a duplicate of a petition instituted on October 27, 2004 (TA-W-55,864), which is the subject of an ongoing investigation. Consequently, further investigation in this case would serve no purpose, and the petition investigation has been terminated.

Signed at Washington, DC, this 5th day of November, 2004.
Linda G. Poole,
Certifying Officer, Division of Trade Adjustment Assistance.

[FR Doc. 04-26017 Filed 11-22-04; 8:45 am]

BILLING CODE 4510-30-P